DEPARTMENT OF THE TREASURY

Community Development Financial Institutions Fund Open Meeting: Community Development Advisory Board

ACTION: Notice of open meeting.

SUMMARY: This notice announces an open meeting of the Community Development Advisory Board (the Advisory Board), which provides advice to the Director of the Community Development Financial Institutions Fund (CDFI Fund). This meeting will be conducted virtually. A link to view the meeting will be posted under the date of the meeting at www.cdfifund.gov/cdab.

DATES: The meeting will be held from 11:00 to 11:30 a.m. Eastern Time on Monday, December 29, 2025.

ADDRESSES: Submission of Written Statements: Participation in the discussions at the meeting will be limited to Advisory Board members, Department of the Treasury staff, and certain invited guests. Anyone who would like to have the Advisory Board consider a written statement must submit it by 5:00 p.m. Eastern Time on Friday, December 19, 2025. Send electronic statements to AdvisoryBoard@cdfi.treas.gov. All written statements submitted by the deadline will be responded to with a simple acknowledgement of receipt.

In general, the CDFI Fund will make all statements available in their original format, including any business or personal information provided such as names, addresses, email addresses, or telephone numbers, for virtual public inspection and copying. The CDFI Fund is open on official business days between the hours of 9:00 a.m. and 5:00 p.m. Eastern Time. You can make arrangements to virtually inspect statements by emailing AdvisoryBoard@cdfi.treas.gov. All statements received, including attachments and other supporting materials, are part of the public record and subject to public disclosure. You should only submit information that you wish to make publicly available.

FOR FURTHER INFORMATION CONTACT: Beverly Bobb, Senior Advisor, CDFI Fund; AdvisoryBoard@cdfi.treas.gov. Other information regarding the CDFI Fund and its programs may be obtained through the CDFI Fund's website at http://www.cdfifund.gov.

SUPPLEMENTARY INFORMATION: Section 104(d) of the Riegle Community Development and Regulatory Improvement Act of 1994 (Pub. L. 103-325), which created the CDFI Fund, established the Advisory Board. The charter for the Advisory Board has been filed in accordance with the Federal Advisory Committee Act, as amended (5 U.S.C. App.), and with the approval of the Secretary of the Treasury.

The function of the Advisory Board is to advise the Director of the CDFI Fund (who has been delegated the authority to administer the CDFI Fund) on the policies regarding the activities of the CDFI Fund. The Advisory Board is not a governing board, and it does not advise the CDFI Fund on approving or declining any particular application for monetary or non-monetary awards or any particular application for Certification.

In accordance with section 10(a) of the Federal Advisory Committee Act, 5 U.S.C. 1009 and the regulations thereunder, Beverly Bobb, Designated Federal Officer of the Advisory Board, has ordered publication of this notice that the Advisory Board will convene an open meeting, which will be conducted virtually, 11:00 to 11:30 a.m. Eastern Time on Monday, December 29, 2025. Members of the public who wish to view the virtual meeting will be required to register upon entering the virtual meeting, which can be accessed 30 minutes prior to its scheduled start time. The link to view the meeting will be posted under the date of the meeting at https://www.cdfifund.gov/cdab.

The Advisory Board meeting will include a report from Acting Director Smith.

(Authority: 12 U.S.C. 4703)

Beverly Bobb,
Designated Federal Officer of the Advisory Board, Community Development Financial Institutions Fund.

[FR Doc. 2025-22587 Filed 12-11-25; 8:45 am]

BILLING CODE 4810-70-P